Title 3—

The President

Executive Order 13914 of April 6, 2020

Encouraging International Support for the Recovery and Use of Space Resources

By the authority vested in me as President by the Constitution and the laws of the United States of America, including title IV of the U.S. Commercial Space Launch Competitiveness Act (Public Law 114-90), it is hereby ordered as follows:

Section 1. Policy. Space Policy Directive-1 of December 11, 2017 (Reinvigorating America's Human Space Exploration Program), provides that commercial partners will participate in an “innovative and sustainable program” headed by the United States to “lead the return of humans to the Moon for long-term exploration and utilization, followed by human missions to Mars and other destinations.” Successful long-term exploration and scientific discovery of the Moon, Mars, and other celestial bodies will require partnership with commercial entities to recover and use resources, including water and certain minerals, in outer space.

Uncertainty regarding the right to recover and use space resources, including the extension of the right to commercial recovery and use of lunar resources, however, has discouraged some commercial entities from participating in this enterprise. Questions as to whether the 1979 Agreement Governing the Activities of States on the Moon and Other Celestial Bodies (the “Moon Agreement”) establishes the legal framework for nation states concerning the recovery and use of space resources have deepened this uncertainty, particularly because the United States has neither signed nor ratified the Moon Agreement. In fact, only 18 countries have ratified the Moon Agreement, including just 17 of the 95 Member States of the United Nations Committee on the Peaceful Uses of Outer Space. Moreover, differences between the Moon Agreement and the 1967 Treaty on Principles Governing the Activities of States in the Exploration and Use of Outer Space, Including the Moon and Other Celestial Bodies—which the United States and 108 other countries have joined—also contribute to uncertainty regarding the right to recover and use space resources.

Americans should have the right to engage in commercial exploration, recovery, and use of resources in outer space, consistent with applicable law. Outer space is a legally and physically unique domain of human activity, and the United States does not view it as a global commons. Accordingly, it shall be the policy of the United States to encourage international support for the public and private recovery and use of resources in outer space, consistent with applicable law.

Sec. 2. The Moon Agreement. The United States is not a party to the Moon Agreement. Further, the United States does not consider the Moon Agreement to be an effective or necessary instrument to guide nation states regarding the promotion of commercial participation in the long-term exploration, scientific discovery, and use of the Moon, Mars, or other celestial bodies. Accordingly, the Secretary of State shall object to any attempt by any other state or international organization to treat the Moon Agreement as reflecting or otherwise expressing customary international law.

Sec. 3. Encouraging International Support for the Recovery and Use of Space Resources. The Secretary of State, in consultation with the Secretary of Commerce, the Secretary of Transportation, the Administrator of the National Aeronautics and Space Administration, and the head of any other executive department or agency the Secretary of State determines to be appropriate, shall take all appropriate actions to encourage international support for the public and private recovery and use of resources in outer space, consistent with the policy set forth in section 1 of this order. In carrying out this section, the Secretary of State shall seek to negotiate joint statements and bilateral and multilateral arrangements with foreign states regarding safe and sustainable operations for the public and private recovery and use of space resources.

Sec. 4. Report on Efforts to Encourage International Support for the Recovery and Use of Space Resources. No later than 180 days after the date of this order, the Secretary of State shall report to the President, through the Chair of the National Space Council and the Assistant to the President for National Security Affairs, regarding activities carried out under section 3 of this order.

Sec. 5. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

April 6, 2020.

[FR Doc. 2020-07800

Filed 4-9-20; 11:15 am]

Billing code 3295-F0-P